DEPARTMENT OF DEFENSE

Office of the Secretary

[Transmittal No. 19-74]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-74 with attached Policy Justification and Sensitivity of Technology.

Dated: June 24, 2020.
Aaron T. Siegel,
Alternate OSD Federal Register Liaison Officer, Department of Defense.

BILLING CODE 5000-06-P

BILLING CODE 5001-06-C

Transmittal No. 19-74

Notice of Proposed Issuance of Letter of Offer Pursuant to Section 36(b)(1) of the Arms Export Control Act, as amended

(i) Prospective Purchaser: Government of Egypt.

(ii) Total Estimated Value:

Major Defense Equipment * | $2.0 billion
Other | $ .3 billion
Total | $2.3 billion

(iii) Description and Quantity or Quantities of Articles or Services under Consideration for Purchase:

Major Defense Equipment (MDE):

Eighty-eight (88) T700-GE-701D Engines (86 remanufactured, 2 spares)

Forty-seven (47) AN/ASQ-170 Modernized Target Acquisition and Designation Sight/AN/AAR-11 Modernized Pilot Night Vision Sensors (MTADS/PNVS) (43 remanufactured, 2 new, 2 spares)

Forty-five (45) AAR-57 Common Missile Warning Systems (CMWS) (43 new, 2 spares) Ninety-two (92) Embedded Global Positioning Systems/Inertial Navigation (EGI) (86 new, 6 spares)

Non-MDE: Also included are AN/AVR-2B Laser Detecting Sets, AN/APX-119 transponders, Identify Friend or Foe (IFF), AN/APN-209 radar altimeters, AN/ARN-149 Automatic Direction Finders, UHF/VHF radio, tactical AN/ARC-201E radio, APR-39 Radar Warning Sets, Improved Data Modems IDM-401, Enhanced Image Intensifiers EI2, Hellfire launchers M299, 2.75 inch 19 tube rocket launchers, M230 automatic guns, M230 spare gun barrels, MT06 initiators, cartridge actuated JAU-59, training devices, helmets, simulators, generators, transportation, wheeled vehicles and organization equipment, spare and repair parts, support equipment, tools and test equipment, technical data and publications, personnel training and training equipment, U.S. government and contractor engineering, technical, and logistics support services, and other related elements of logistics support.

(iv) Military Department: Army (EG-B-VGC).

(v) Prior Related Cases, if any: EG-B-UTN, EG-B-UZR, EG-B-VGO, EG-B-VGJ, EG-B-VBT

(vi) Sales Commission, Fee, etc., Paid, Offered, or Agreed to be Paid: None

(vii) Sensitivity of Technology Contained in the Defense Article or Defense Services Proposed to be Sold: See Attached Annex.

(viii) Date Report Delivered to Congress: May 7, 2020

* As defined in Section 47(6) of the Arms Export Control Act.

POLICY JUSTIFICATION

Egypt—AH-64E Refurbished Apache Attack Helicopters and Related Equipment and Support

The Government of Egypt has requested to buy equipment to refurbish forty-three (43) AH-64E Apache attack helicopters. This includes: eighty-eight (88) T700-GE-701D engines (86 remanufactured, 2 spares); forty-seven (47) AN/ASQ-170 Modernized Target Acquisition and Designation Sight/AN/AAR-11 Modernized Pilot Night Vision Sensors (MTADS/PNVS) (43 remanufactured, 2 new, 2 spares); forty-five (45) AAR-57 Common Missile Warning Systems (CMWS) (43 new, 2 spares); and ninety-two (92) Embedded Global Positioning System/Inertial Navigation Systems (EGI) (86 new, 6 spares). Also included are AN/AVR-2B Laser Detecting Sets, AN/APX-119 transponders, Identify Friend or Foe (IFF), AN/APN-209 radar altimeters, AN/ARN-149 Automatic Direction Finders, UHF/VHF radio, tactical AN/ARC-201E radio, APR-39 Radar Warning Sets, Improved Data Modems IDM-401, Enhanced Image Intensifiers EI2, Hellfire launchers M299, 2.75 inch 19 tube rocket launchers, M230 automatic guns, M230 spare gun barrels, MT06 initiators, cartridge actuated JAU-59, training devices, helmets, simulators, generators, transportation, wheeled vehicles and organization equipment, spare and repair parts, support equipment, tools and test equipment, technical data and publications, personnel training and training equipment, U.S. government and contractor engineering, technical, and logistics support services, and other related elements of logistics support. The estimated total cost is $2.3 billion.

This proposed sale will support the foreign policy and national security of the United States by helping to improve the security of a friendly country that continues to be an important strategic partner in the Middle East.

Egypt intends to use these refurbished AH-64 helicopters to modernize its armed forces to address the shared U.S.-Egyptian interest in countering terrorist activities emanating from the Sinai Peninsula, which threaten Egyptian and Israeli security and undermine regional stability. This sale will contribute to Egypt's military goal to update its capability while further enhancing greater interoperability between Egypt, the U.S., and other allies. Egypt will have no difficulty sustaining these refurbished aircraft.

The proposed sale will not alter the basic military balance in the region.

The principal contractors involved in this program are the Boeing Company, Meza, AZ, and Lockheed Martin Corporation, Orlando, FL. There are no known offset agreements proposed in connection with this potential sale.

Implementation of this proposed sale will not require the assignment of any additional U.S. Government or contractor representatives to Egypt.

There will be no adverse impact on U.S. defense readiness as a result of this proposed sale.

Transmittal No. 19-74

Notice of Proposed Issuance of Letter of Offer Pursuant to Section 36(b)(1) of the Arms Export Control Act

Annex

Item No. vii

(vii) Sensitivity of Technology:

1. The highest classification of the AH-64 Apache Attack Helicopter AH-64 Apache helicopter is CONFIDENTIAL and the highest classification of data and information is SECRET. The AH-64 Apache helicopter weapon system contains communications and target identification equipment, navigation equipment, aircraft survivability equipment, displays, and sensors. The airframe itself does not contain sensitive technology; however, the pertinent equipment listed below will be either installed on the aircraft or included in the sale:

a. The AN/ASQ-170 Modernized Target Acquisition and Designation Sight/AN/AAQ-11 Pilot Night Vision Sensor (MTADS/PNVS) provides day, night, and limited adverse weather target information, as well as night navigation capabilities. The PNVS provides thermal imaging that permits nap-of-the-earth flight to, from, and within the battle area, while TADS provides the co-pilot gunner with search, detection, recognition, and designation by means of Direct View Optics (DVO), EI(2) television, and Forward Looking Infrared (FLIR) sighting systems that may be used singularly or in combinations.

b. The AAR-57 Common Missile Warning System (CMWS) detects energy emitted by threat missiles in-flight, evaluates potential false alarm emitters in the environment, declares validity of threat and selects appropriate countermeasures. The CMWS consists of an Electronic Control Unit (ECU), Electro-Optic Missile Sensors (EOMSs), and Sequencer and Improved Countermeasures Dispenser (ICMD).

c. The AN/ APR-39 Radar Signal Detecting Set is a system that provides warnings of radar-directed air defense threats and allows appropriate countermeasures. This is the 1553 databus-compatible configuration.

d. The AN/AVR-2B Laser Warning Set is a passive laser warning system that receives, processes, and displays threat information resulting from aircraft illumination by lasers on the multi-functional display.

e. The Embedded Global Positioning System/Inertial Navigation System plus Multi Mode Receiver (EGI+MMR). The aircraft has two EGIs which use internal accelerometers, rate gyro measurements, and external sensor measurements to estimate the aircraft state, provides aircraft flight and position data to aircraft systems. The EGI is a velocity-aided, strap down, ring laser gyro based inertial unit. The EGI unit also houses a GPS receiver.

2. If a technologically advanced adversary were to obtain knowledge of the specific hardware and software elements, the information could be used to develop countermeasures that might reduce weapon system effectiveness or be used in the development of a system with similar or advanced capabilities.

3. A determination has been made that Egypt can provide substantially the same degree of protection of this technology as the U.S. Government. This proposed sale is necessary in furtherance of the U.S. foreign policy and national security objectives outlined in the Policy Justification. Moreover, the benefits to be derived from this sale, as outlined in the Policy Justification, outweigh the potential damage that could result if the sensitive technology were revealed to unauthorized persons.

4. All defense articles and services listed in this transmittal has been authorized for release and export to Egypt.

[FR Doc. 2020-14060 Filed 6-29-20; 8:45 am]

BILLING CODE 5001-06-P